DEPARTMENT OF THE INTERIOR

Bureau of Land Management

[15XL LLIDI02000 L71220000.EO0000-LVTFDX508400 241A 4500080287]

DEPARTMENT OF AGRICULTURE

Forest Service

Notice of Availability of Final Environmental Impact Statement for the Proposed Rasmussen Valley Phosphate Mine, Caribou County, Idaho

AGENCY: Bureau of Land Management, Interior, United States Forest Service, Agriculture.

ACTION: Notice of availability.

SUMMARY: In accordance with the National Environmental Policy Act of 1969, as amended (NEPA), the Bureau of Land Management (BLM) and the U.S. Department of Agriculture, Forest Service (USFS), Caribou-Targhee National Forest (CTNF), have prepared a Final Environmental Impact Statement (EIS) for the proposed Rasmussen Valley Phosphate Mine, and by this Notice are announcing the opening of the review and availability of the document. A Draft USFS Record of Decision (ROD) is also available for review and objection as described in the Summary section.

DATES: The BLM and USFS will issue coordinated RODs for this project. The Final EIS is now available for public review, as is the Draft USFS ROD. The BLM ROD will be released and announced separately, no sooner than the end of the Final EIS availability period on October 11, 2016. A legal notice published in the newspaper of record of the Final USFS ROD will be released no sooner than five business days following the end of the 45 day objection period after the Draft USFS ROD has been announced and made available.

ADDRESSES: CD-ROM and print copies of the Rasmussen Valley Mine Final EIS and the Draft USFS ROD are available in the BLM Pocatello Field Office at the following address: 4350 Cliffs Drive, Pocatello, ID 83204. In addition, an electronic copy of the Final EIS is available online at BLM Planning and NEPA Register: http://on.doi.gov/1GpGxyW and an electronic copy of the Final EIS and the Draft USFS ROD are available online at CTNF Current and Recent Projects: http://www.fs.usda.gov/projects/ctnf/landmanagement/projects.

FOR FURTHER INFORMATION CONTACT: William (Bill) Volk, Bureau of Land Management, Pocatello Field Office, 4350 Cliffs Drive, Pocatello, ID 83204, telephone 208-236-7503, fax 208-478-6376. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: Nu-West Industries, Inc., doing business as Agrium Conda Phosphate Operations (Agrium), has submitted a mine and reclamation plan for the Rasmussen Valley Mine to exercise their contractual rights to recover phosphate ore reserves contained within Federal Phosphate Lease I-05975 (the Lease). The mine would be located in Caribou County approximately 18 miles northeast of Soda Springs, Idaho, on the southwestern flank of Rasmussen Ridge and adjacent to Rasmussen Valley near the headwaters of the Blackfoot River.

Agrium proposes to develop the Rasmussen Valley Mine within the Lease on a combination of BLM-managed lands managed by the Pocatello Field Office, National Forest System (NFS) lands administered by the Soda Springs Ranger District, the Blackfoot River Wildlife Management Area (WMA) administered by the Idaho Department of Fish and Game (IDFG), and on split estate lands (private land with Federal minerals). The Lease grants the lessee, Agrium, exclusive rights to mine and otherwise dispose of the federally-owned phosphate deposit. The proposed Rasmussen Valley Mine would also include some development outside the Lease on private lands, NFS lands, WMA lands, and on State lands administered by the Idaho Department of Lands (IDL). Agrium has also requested lease modifications in three locations to accommodate recovering phosphate outside the existing Lease area, or to accommodate disposal of mine waste on NFS lands.

The BLM, as the Federal Lease administrator, is the lead agency for the Final EIS. The USFS is the joint-lead agency, and the Idaho Department of Environmental Quality and the U.S. Army Corps of Engineers are cooperating agencies. The IDL, IDFG, Idaho Department of Water Resources, and U.S. Fish and Wildlife Service have also participated in the preparation of the Final EIS. The Final EIS provides the analysis upon which the BLM, USFS, and other involved agencies will base their decisions regarding the proposed Rasmussen Valley Mine.

In accordance with the Mineral Leasing Act of 1920, as amended, and NEPA, the BLM will evaluate the information in the Final EIS and respond to Agrium's mine and reclamation plan, review the impacts of the alternatives to the Proposed Action, including the No Action Alternative, and will issue decisions related to the development of the Lease and the proposed lease modifications. The USFS will make recommendations to the BLM concerning surface management and mitigation on leased lands within the CTNF and will make separate but coordinated decisions on special use authorizations for off-lease activities within the CTNF.

Approval of the Proposed Action would constitute both agencies' approval of Agrium's Juanuary 2011 mine and reclamation plan and proposed lease modifications. Under the Proposed Action, Agrium would disturb approximately 468 acres using open pit mining methods in phases (panels), allowing concurrent backfilling and reclamation of previously mined panels; construct permanent and temporary external overburden and ore piles, topsoil and growth media stockpiles; construct haul roads and realign portions of nearby county roads; and construct power lines, a staging and fuel storage area, water supply wells, and runoff sediment control structures. In addition, Agrium would shape pit backfill and external overburden piles to reduce the risk of ponded water on or in the pit; place a cover system over the backfill and select overburden to reduce the risk of deep percolation of water; leave high wall exposures in portions of the backfilled pit; and extend the pit and associated backfill beyond the Lease boundary in several locations, requiring enlargement of the Lease by lease modification. Phosphate ore would be hauled to Agrium's existing Wooley Valley Tipple, where it would be placed on rail cars and shipped by existing rail to Agrium's Conda Phosphate Operation (CPO) Fertilizer Plant approximately 12 miles to the southwest.

A Notice of Intent (NOI) to prepare this EIS was published in the Federal Register on March 1, 2011, which initiated a 30-day public scoping period for the Proposed Action. During public and internal scoping, issues and concerns were expressed that included impacts to wetlands; impacts to surface water and groundwater potentially resulting from releases of selenium and other contaminants of potential concern (COPCs) from waste rock; physical stability of proposed external overburden piles; management of pit water; impacts to wildlife and associated wildlife habitat, especially on the WMA; and maximizing phosphate resource recovery.

To address these issues and concerns, the agencies considered several alternatives to the Proposed Action. From these alternatives, Agrium proposed a combined set of alternatives to form Alternative One, called the Rasmussen Collaborative Alternative (RCA). In the Final EIS, the RCA is the agencies' preferred alternative and would disturb approximately 548 acres. Under the RCA, wetlands issues would be addressed by relocating the haul road, pit ramps and county road, and positioning borrow areas to avoid all wetlands. The potential for selenium and other COPCs to impact shallow groundwater and connected surface water would be avoided by eliminating the three external overburden piles from the mine plan. To accomplish this, overburden would be placed as backfill in the existing open pit at the Monsanto Company's wholly owned subsidiary, P4 Production, LLC's (P4), nearby South Rasmussen Mine. Eliminating the three external overburden piles would also alleviate concerns for the stability of these piles. Water management needs would be greatly reduced by not excavating the pit below the water table. Impacts to regional groundwater from COPCs would be reduced by proposing a more protective earthen cover over the backfill and overburden than the cover system proposed in the Proposed Action. The RCA cover system would use select alluvium and soil, available from a nearby borrow area, to reduce the amount of precipitation that percolates through the backfill and overburden. The RCA would also extend the pit toward the north to maximize phosphate resource recovery.

Under the RCA, the proposed lease modifications would be revised to accommodate backfill and external overburden piles on NFS land outside of the current Lease boundaries. Off-lease borrow areas on NFS lands would require a mineral materials permit from the USFS. Other off-lease activities on NFS land would require USFS Special Use Authorizations. RCA activities on State land, including pit backfill and haul roads on P4's South Rasmussen Mine, would require a modification to the currently approved mine plan for P4's State lease. A modification to the currently approved mine plan for P4's South Rasmussen Mine Federal fringe lease (IDI-023868) would also be required for RCA activities that would backfill a portion of that mine pit.

The RCA proposes various mitigation measures to avoid, minimize and/or compensate for mine impacts to all resources. The RCA would avoid impacts that may be associated with the Proposed Action where possible. For example, under the RCA, surface water impacts from mine waste leachates would be avoided by eliminating certain waste piles. Also, the main haul road would be relocated to totally avoid wetlands. The RCA would also minimize other impacts to the extent practicable such as applying a more protective cover on mine waste to reduce the amount of leachate reaching groundwater to a level allowable by the Idaho Department of Environmental Quality. Some impacts such as conversion of visual resources from upland range or aspen to bare pit wall cannot be fully mitigated, but would be minimized to the extent practicable by backfilling mine pits with all of the overburden generated by mining. Impacts to wildlife habitat would be minimized on-site by using more robust reclamation including a reclamation seed mix with native species to provide more vegetation diversity for wildlife forage.

The residual impacts to wildlife habitat for the proposed Rasmussen Valley Mine were quantified using a Habitat Equivalency Analysis (HEA) methodology. The HEA quantifies the baseline wildlife habitat and predicts the permanent and interim losses and gains of wildlife habitat that would result from the mining activity and reclamation. Agrium has proposed to use the quantitative results of the HEA in the determination of a monetary fee that they will contribute to a third party, such as a State natural resource management agency, foundation, or other appropriate organization, to implement wildlife habitat mitigation projects in the regional watershed, to achieve, at a minimum, no net loss to the services, functions, and values of the original habitat.

A Draft EIS was prepared and a notice of availability published in the Federal Register on September 18, 2015, initiating a 45-day public comment period. The Draft EIS considered several alternative components. Besides the Proposed Action, the RCA and the No Action Alternative were carried forward for full analysis in the Final EIS. Agencies, organizations, and interested parties provided comments on the Draft EIS via mail, email, and public meetings.

In developing responses to these comments, revisions were made to the RCA in the Final EIS to minimize impacts to non-Federal lands and groundwater impacts at P4's South Rasmussen Mine. These revisions include the addition of off-lease borrow areas on NFS lands to potentially minimize the borrow area on the WMA, and using select borrow material to improve the earthen cover on the RCA pit backfill at the South Rasmussen Mine.

Under the No Action Alternative, the Rasmussen Valley Mine would not be approved for mining, and no associated development would occur on the existing Lease at this time. Similarly, associated requests such as the lease modification applications would not be approved. The No Action Alternative would not provide ore for the CPO and would leave the mineral resource unmined. However, the No Action Alternative does not preclude application and approval of future mine and reclamation plans for the site because of pre-existing mining rights granted in the existing Lease.

The USFS's decision concerning that portion of the proposed project related to Special Use Authorizations for off-lease activities is subject to the objection process pursuant to 36 CFR 218 Subparts A and B. Instructions for filing objections will be provided in the legal notice published in the newspaper of record for the Draft USFS ROD. Objections will be accepted only from those who have previously submitted specific written comments regarding the proposed project, either during scoping or other designated opportunities for public comment, in accordance with 36 CFR 218.5(a). Issues raised in objections must be based on previously submitted, timely, and specific written comments regarding the proposed project, unless based on new information arising after designated opportunities.

The BLM will not issue a draft ROD for the project but will release a ROD in the future, based on the Final EIS and any considerations the public may communicate regarding this proposal during the “availability period” previously described. The BLM's decision regarding the mine and reclamation plan and lease modifications will be subject to appeal under procedures found in 43 CFR part 4, with explanation and opportunity to be provided in the forthcoming ROD.

Before including your address, phone number, email address, or other personal identifying information in your comment, you should be aware that your entire comment—including your personal identifying information—may be made publicly available at any time. While you can ask us in your comment to withhold your personal identifying information from public review, we cannot guarantee that we will be able to do so.

Authority: 42 U.S.C. 4321 et seq. ; 40 CFR parts 1500-1508; 43 CFR part 46; 43 U.S.C. 1701; and 43 CFR part 3590.

Mary D'Aversa,
District Manager, Idaho Falls District, Bureau of Land Management.
Garth Smelser,
Forest Supervisor, Caribou-Targhee National Forest, U.S. Forest Service.

[FR Doc. 2016-21772 Filed 9-8-16; 8:45 am]

BILLING CODE 4310-GG-P